GENERAL SERVICES ADMINISTRATION

[Notice-CSE-2015-01; Docket No. 2015-0002; Sequence No. 9]

Notice of the General Services Administration's Labor-Management Relations Council Meeting

AGENCY: Office of Human Resources Management (OHRM), General Services Administration (GSA).

ACTION: Notice of meetings.

SUMMARY: The General Services Administration's Labor-Management Relations Council (GLMRC), a Federal Advisory Committee established in accordance with the Federal Advisory Committee Act (FACA), 5 U.S. C., App., and Executive Order 13522, plans to hold two meetings that are open to the public.

DATES: The meetings will be held on Tuesday, May 19, 2015, from 9:30 a.m. to 4:30 p.m., and Wednesday, May 20, 2015, 1:00 p.m. to 4:30 p.m., eastern standard time.

ADDRESSES: The meetings will be held in the General Services Administration's Conference Center, 1800 F Street NW., Washington, DC 20405. This site is accessible to individuals with disabilities. Please refer to the GLMRC Web site on gsa.gov for the most up-to-date meeting agenda, and access information including changes in meeting rooms, times, or dates.

FOR FURTHER INFORMATION CONTACT: Ms. Temple L. Wilson, GLMRC Designated Federal Officer (DFO), OHRM, General Services Administration, at telephone 202-969-7110, or email at gmlrc@gsa.gov.

SUPPLEMENTARY INFORMATION:

Background

The GLMRC is an advisory body composed of representatives of the Federal employee unions representing GSA employees and senior GSA officials. The GLMRC was established consistent with Executive Order 13522, entitled, “Creating Labor-Management Forums to Improve Delivery of Government Services;” which instructs Federal agencies to establish department- or agency-level labor-management forums to help identify problems and propose solutions to better serve the public and Federal agency missions. The GLMRC is tri-chaired by GSA's Chief Human Capitol Officer, together with two senior union officials from each of the two Federal employees' unions representing GSA employees.

The GLMRC works toward promoting cooperative and productive relationships between labor and management, providing an opportunity for employees through their union representatives to engage in pre-decisional involvement in all workplace matters to the fullest extent practicable, and to advise the GSA administrator on innovative ways to improve delivery of services and products to the public while cutting costs and advancing employee interests. The May 19, 2015 and May 20, 2015 meetings will establish GLMRC's priorities for 2015. The GLMRC will also discuss workforce planning and employee training and development.

The meetings are open to the public. In order to gain entry into the Federal building where the meeting is being held, public attendees who are Federal employees should bring their Federal employee identification cards, and members of the general public should bring their driver's license or other government-issued identification.

Public Comments

The public is invited to submit written comments for the meetings until 5:00 p.m. eastern time on Monday, May 18, 2015, by either of the following methods: Electronic or Paper Statements: Submit electronic statements to Ms. Temple Wilson, Designated Federal Officer, at temple.wilson@gsa.gov; or send paper statements in triplicate to Ms. Wilson at 1800 F Street NW., Suite 7003A, Washington, DC 20405. In general, public comments will be posted on the GLMRC Web site. All comments, including attachments and other supporting materials received, are part of the public record and subject to public disclosure.

Any comments submitted in connection with the GLMRC meeting will be made available to the public under the provisions of the Federal Advisory Committee Act.

Dated: April 30, 2015.
Wade Hannum,
Office of Human Resources Management, OHRM Director, Office of HR Strategy and Services, Center for Talent Engagement (COE4), General Services Administration.

[FR Doc. 2015-10454 Filed 5-4-15; 8:45 am]

BILLING CODE 6820-34-P